SECURITIES AND EXCHANGE COMMISSION

[Release No. 34-65381; File No. SR-NASDAQ-2011-128]

Self-Regulatory Organizations; The NASDAQ Stock Market LLC; Notice of Filing and Immediate Effectiveness of Proposed Rule Change Relating to Customer Rebates To Add Liquidity

September 22, 2011.

Correction

In notice document 2011-24868 appearing on pages 60103-60106 in the issue of September 28, 2011, make the following correction:

On page 60106, in the first column, in the first paragraph, in the last line, “September 28, 2011” should read “October 19, 2011”.

[FR Doc. C1-2011-24868 Filed 10-17-11; 8:45 am]

BILLING CODE 1505-01-D